DEPARTMENT OF VETERANS AFFAIRS

38 CFR Part 2

RIN 2900-AP47

Delegations of Authority: Office of Regulation Policy and Management (ORPM)

AGENCY: Department of Veterans Affairs.

ACTION: Final rule.

SUMMARY: The Department of Veterans Affairs is amending its regulations delegating rulemaking authority within the Office of the General Counsel. The amendments reflect current management structure and titles.

DATES: Effective Date: June 18, 2015.

FOR FURTHER INFORMATION CONTACT: William F. Russo, Acting Director, Office of Regulation Policy and Management, Office of the General Counsel, U.S. Department of Veterans Affairs, 810 Vermont Avenue NW., Washington, DC 20420, telephone (202) 461-4902. (This is not a toll-free number.)

SUPPLEMENTARY INFORMATION: In 2014, the Department of Veterans Affairs (VA) Office of the General Counsel was restructured, which included changes in the titles of certain officials involved in VA's rulemaking process. Specifically, matters previously handled by the single Deputy General Counsel are now handled by a Principal Deputy General Counsel and two Deputy General Counsels. This final rule amends 38 CFR 2.6(e)(1) to reflect current management structure and titles.

Administrative Procedure Act

This document's publication as a final rule is pursuant to 5 U.S.C. 553(b)(A), which exempts matters pertaining to agency organization, procedure and practice from notice and public comment requirements. Also, because this notice concerns only such matters, VA finds pursuant to 5 U.S.C. 553(d)(3) good cause in this case to dispense with the delayed effective date requirement.

Executive Order 12866

Under the exemption in section 3(d)(3) of Executive Order 12866 for regulations limited to agency organization, management, or personnel matters, this document is not subject to the Executive Order's review requirements.

Unfunded Mandates

The Unfunded Mandates Reform Act of 1995 requires, at 2 U.S.C. 1532, that agencies prepare an assessment of anticipated costs and benefits before issuing any rule that may result in expenditure by State, local, and tribal governments, in the aggregate, or by the private sector, of $100 million or more (adjusted annually for inflation) in any one year. This rule will have no such effect on State, local, and tribal governments, or on the private sector.

Paperwork Reduction Act of 1995

This document contains no provisions constituting a collection of information under the Paperwork Reduction Act of 1995 (44 U.S.C. 3501-3521).

Regulatory Flexibility Act

The initial and final regulatory flexibility analysis requirements of sections 603 and 604 of the Regulatory Flexibility Act, 5 U.S.C. 601-612, are not applicable to this rule, because a notice of proposed rulemaking is not required for this rule. Even so, the Secretary hereby certifies that this regulatory amendment will not have a significant economic impact on a substantial number of small entities as they are defined in the Regulatory Flexibility Act. This amendment will not directly affect any small entities. Therefore, this amendment is also exempt pursuant to 5 U.S.C. 605(b), from the initial and final regulatory flexibility analysis requirements of sections 603 and 604.

Catalog of Federal Domestic Assistance

There are no Catalog of Federal Domestic Assistance program numbers for this rule.

Signing Authority

The Secretary of Veterans Affairs, or designee, approved this document and authorized the undersigned to sign and submit the document to the Office of the Federal Register for publication electronically as an official document of the Department of Veterans Affairs. Robert L. Nabors II, Chief of Staff, approved this document on June 12, 2015, for publication.

List of Subjects in 38 CFR Part 2

Authority delegations (Government agencies).

Dated: June 12, 2015.
William F. Russo,
Acting Director, Office of Regulation Policy & Management, Office of the General Counsel.

For the reasons set out in the preamble, 38 CFR part 2 is amended as follows:

PART 2—DELEGATIONS OF AUTHORITY

1. The authority citation for part 2 continues to read as follows:

Authority: 5 U.S.C. 302, 552a; 38 U.S.C. 501, 512, 515, 1729, 1729A, 5711; 44 U.S.C. 3702, and as noted in specific sections.

§ 2.6 [Amended]

2. Amend § 2.6(e)(1) by removing “Deputy General Counsel, and Director for Regulation Policy and Management” and adding in its place “the Principal Deputy General Counsel, the Deputy General Counsel, Central Office, and the Director of the Office of Regulation Policy and Management”.

[FR Doc. 2015-14959 Filed 6-17-15; 8:45 am]

BILLING CODE 8320-01-P